DELAWARE RIVER BASIN COMMISSION

Notice of Proposed Methodology for the 2020 Delaware River and Bay Water Quality Assessment Report

AGENCY: Delaware River Basin Commission.

ACTION: Notice.

SUMMARY: Notice is hereby given that the methodology proposed to be used in the 2020 Delaware River and Bay Water Quality Assessment Report is available for review and comment.

DATES: Comments on the assessment methodology or recommendations for the consideration of data sets should be submitted in writing before 5:00 p.m. EST on March 6, 2020.

ADDRESSES: Comments will be accepted via email to john.yagecic@drbc.nj.gov, with “Water Quality Assessment 2020” as the subject line; via fax to 609-883-9522; via U.S. Mail to DRBC, Attn: Water Quality Assessment 2016, P.O. Box 7360, West Trenton, NJ 08628-0360; via private carrier to DRBC, Attn: Water Quality Assessment 2020, 25 Cosey Road, West Trenton, NJ 08628-0360; or by hand to the latter address. All submissions should have the phrase “Water Quality Assessment 2020” in the subject line and should include the name, address (street address optional) and affiliation, if any, of the commenter.

FOR FURTHER INFORMATION CONTACT: Mr. John Yagecic, Manager, Water Quality Assessment, john.yagecic@drbc.nj.gov, 609-883-9500, ext. 271.

SUPPLEMENTARY INFORMATION: The Delaware River Basin Commission (“DRBC” or “Commission”) is an interstate and federal compact agency that was created in 1961 by concurrent legislation of the States of Delaware, New Jersey, and New York, the Commonwealth of Pennsylvania and the United States Government for purpose of jointly managing the water resources of the Delaware River Basin.

DRBC currently is compiling data for the 2020 Delaware River and Bay Water Quality Assessment Report (“2020 Assessment”) required by the federal Clean Water Act (“CWA”). The 2020 Assessment will present the extent to which waters of the Delaware River and Bay are attaining designated uses in accordance with Section 305(b) of the CWA and the Commission's Water Quality Regulations, 18 CFR part 410, and will identify impaired waters, which consist of waters in which surface water quality standards are not being met.

The proposed assessment methodology to be used in the 2020 Assessment is available for review at the following URL: https://www.nj.gov/drbc/library/documents/WQAssessmentReport2020_MethodologyDRAFTjan20.pdf.

Dated: January 22, 2020.
Pamela M. Bush,
Commission Secretary.

[FR Doc. 2020-01436 Filed 1-27-20; 8:45 am]

BILLING CODE 6360-01-P